DEPARTMENT OF AGRICULTURE

Agricultural Marketing Service

[Docket Number FV-04-309]

United States Standards for Grades of Persian (Tahiti) Limes

AGENCY: Agricultural Marketing Service, USDA.

ACTION: Notice; request for public comment.

SUMMARY: The Agricultural Marketing Service (AMS), is soliciting comments on its proposal to revise the United States Standards for Grades of Persian (Tahiti) Limes. Specifically, AMS is proposing to revise the color and juice requirements. The proposed revision would simplify the two requirements in the standards which are complex and difficult to apply. These changes would bring the lime standards in line with other citrus standards, thereby, improving the usefulness in serving the industry.

DATES: Comments must be received by May 10, 2005.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240, fax (202) 720-8871, E-mail FPB.DocketClerk@usda.gov. Comments should make reference to the dates and page number of this issue of the Federal Register and will be made available for public inspection in the above office during regular business hours. The U.S. Standards for Grades of Persian (Tahiti) Limes are available either from the above address or the Fresh Products Branch Web site page at: http://www.ams.usda.gov/standards/limes.pdf.

FOR FURTHER INFORMATION CONTACT: David L. Priester, at the above address or call (202) 720-2185, E-mail David.Priester@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. The United States Standards for Grades of Fruits and Vegetables that are not requirements of Federal Marketing Orders or U.S. Import Requirements, no longer appear in the Code of Federal Regulations, but are maintained by USDA, AMS, Fruit and Vegetable Programs.

AMS is proposing to revise the voluntary U.S. Standards for Grades of Persian (Tahiti) Limes using the procedures that appear in Part 36 Title 7 of the Code of Federal Regulations (7 CFR Part 36). These standards were last revised in 1958.

Background

Prior to undertaking research and other work associated with revision of the grade standards, AMS decided to seek public comments on the petition. A notice requesting comments on the possible revision of the U.S. Standards for Grades of Persian (Tahiti) Limes was published in the June 25, 2004, Federal Register (69 FR 35572).

In response to the request for comments, AMS received two comments. One comment from a private individual which did not support the revision. One comment from a national association of produce receivers favored the revision.

Based on the comments received and information gathered, AMS is proposing to revise the standards for limes following the standard format for U.S. Grade Standards. The proposed revisions would remove the requirements related to color which specify the percentage of the lime surface that shall have good green color. The standard also specify's that limes which fail to meet a grade due to blanching shall be designated as “Mixed Color” and limes that fail to meet a grade because of turning yellow due to ripening shall be designated as “Turning.” Also, the proposed revision would remove the juice content requirement. This will result in limes with lesser color and juice content to be scored as defects using the existing “Damage” and “Serious Damage” definitions for “Blanching,” “Yellow Color” and “Dryness or Mushy Condition.” Therefore, when individual limes fail to meet the above requirements, they will be scored as defects against a given U.S. grade, and if the number of defects exceeds the total grade tolerance, the limes would fail to meet the U.S. grade. This proposal will bring the standards for limes in line with the other U.S. standards for citrus. AMS believes that changing these requirements is warranted to better serve the industry. The official grades of limes covered by these standards are determined by procedures set forth in the Regulations Governing Inspection, Certification and Standards of Fresh Fruits and Vegetables and Other Products (Sec. 51.1 to 51.61).

This notice provides for a 60-day comment period for interested parties to comment on the proposed revision of the U.S. Standards for Grades of Persian (Tahiti) Limes.

Authority: 7 U.S.C. 1621-1627.

Dated: March 7, 2005.
Kenneth C. Clayton,
Acting Administrator.

[FR Doc. 05-4815 Filed 3-10-05; 8:45 am]

BILLING CODE 3410-02-P